DEPARTMENT OF ENERGY

Federal Energy Regulatory Commission

[Docket No. CP02-57-000]

SCG Pipeline, Inc.; Notice of Intent To Prepare an Environmental Assessment for the Proposed SCG Pipeline Project and Request for Comments on Environmental Issues

January 23, 2002.

The staff of the Federal Energy Regulatory Commission (FERC or Commission) will prepare an environmental assessment (EA) that will discuss the environmental impacts of the SCG Pipeline Project involving construction and operation of facilities by SCG Pipeline, Inc. (SCG) in Chatham and Effingham Counties, Georgia and Jasper County, South Carolina.¹ These facilities would consist of about 18.2 miles of 20-inch-diameter pipeline and appurtenant facilities. In addition, SCG seeks to acquire capacity in certain facilities owned by Southern Natural Gas Company (Southern). This EA will be used by the Commission in its decision-making process to determine whether the project is in the public convenience and necessity.

¹ SCG's application was filed with the Commission under section 7 of the Natural Gas Act and part 157 of the Commission's regulations.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” was attached to the project notice SCG provided to landowners. This fact sheet addresses a number of typically asked questions, including the use of eminent domain and how to participate in the Commission's proceedings. It is available for viewing on the FERC Internet Web site (www.ferc.gov).

Summary of the Proposed Project

SCG proposes to construct and operate about 18.2 miles of 20-inch-diameter pipeline and appurtenant facilities extending from an interconnect with Southern's pipeline system in Port Wentworth, Georgia to a terminus in Jasper County, South Carolina. SCG also seeks authority to acquire capacity in Southern's existing 13.25-mile-long, 30-inch-diameter twin pipelines which extend between Elba Island, Georgia and SCG's proposed interconnection at Port Wentworth, Georgia. SCG would construct and maintain meter stations at the interconnection with Southern's pipeline system in Port Wentworth, Georgia and at the pipeline terminus in Jasper County, South Carolina.

The capacity of the SCG Pipeline Project would be 190,000 Mcf per day, and the primary source of natural gas would be imported liquefied natural gas (LNG) from the Elba Island LNG terminal in Savannah, Georgia. SCG's interconnection at Port Wentworth also provides the capability to receive up to 90,000 Mcf per day from Southern's Savannah Lateral in the event that Elba Island LNG supply is unavailable.

The SCG Pipeline Project would interconnect with two nonjurisdictional projects at its proposed terminus in Jasper County, South Carolina: a new electric generation facility planned by South Carolina Electric & Gas Company (SCE&G) and an expansion and extension of an existing intrastate pipeline system planned by South Carolina Pipeline Corporation (SCPC). SCE&G's planned 875 megawatt electric generation facility is located about 5 miles north of Hardeeville, South Carolina. SCPC's planned 16- and 20-inch-diameter pipeline facilities would consist of 43 miles of loop on its existing system and 39 miles of new pipeline. SCPC's 82-mile-long pipeline facilities would extend from the SCG Pipeline Project receipt point to an interconnection with SCPC's existing pipeline system in Dorchester County, South Carolina.

The location of the SCG Pipeline Project facilities is shown in appendix 1.²

² The appendices referenced in this notice are not being printed in the Federal Register. Copies are available on the Commission's Web site at the “RIMS” link or from the Commission's Public Reference and Files Maintenance Branch, 888 First Street, NE., Washington, DC 20426, or call (202) 208-1371. For instructions on connecting to RIMS refer to the last page of this notice. Copies of the appendices were sent to all those receiving this notice in the mail.

Land Requirements for Construction

Construction of the proposed facilities would require about 275.7 acres of land for construction right-of-way, extra workspaces, and contractor yards. Following construction, about 107.2 acres would be maintained as permanent right-of-way and new aboveground facility sites. The remaining 168.5 acres of temporary workspace would be restored and allowed to revert to its former use.

The nominal construction right-of-way for the pipeline would be 100 feet wide, with 50 feet retained as permanent right-of-way. About 91 percent of the pipeline route would parallel existing transportation or energy rights-of-way, and 50 feet of SCG's construction right-of-way would generally overlap these existing maintained rights

The EA Process

The National Environmental Policy Act (NEPA) requires the Commission to take into account the environmental impacts that could result from an action whenever it considers the issuance of a Certificate of Public Convenience and Necessity. NEPA also requires us ³ to discover and address concerns the public may have about proposals. We call this “scoping”. The main goal of the scoping process is to focus the analysis in the EA on the important environmental issues. By this Notice of Intent, the Commission requests public comments on the scope of the issues it will address in the EA. All comments received are considered during the preparation of the EA. State and local government representatives are encouraged to notify their constituents of this proposed action and encourage them to comment on their areas of concern.

³ “We”, “us”, and “our” refer to the environmental staff of the Office of Energy Projects (OEP).

The EA will discuss impacts that could occur as a result of the construction and operation of the proposed project under these general headings:

• Geology and soils

• Water resources, fisheries, and wetlands

• Vegetation and wildlife

• Air quality and noise

• Land use

• Cultural resources

• Endangered and threatened species

• Public safety

We will also evaluate possible alternatives to the proposed project or portions of the project, and make recommendations on how to lessen or avoid impacts on the various resource areas.

Our independent analysis of the issues will be in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section beginning on page 5.

Currently Identified Environmental Issues

We have already identified several issues that we think deserve attention based on a preliminary review of the proposed facilities and the environmental information provided by SCG. This preliminary list of issues may be changed based on your comments and our analysis.

• Twelve perennial waterbodies are crossed by the pipeline, including the Savannah River.

• About 49 acres of wetlands, including 33.4 acres of forested wetlands, are affected by construction of the pipeline.

• Eight single-family residences are within 50 feet of the proposed pipeline construction corridor.

Also, we have made a preliminary decision to not address the impacts of the nonjurisdictional facilities. We will briefly describe their location and status in the EA.

Public Participation

You can make a difference by providing us with your specific comments or concerns about the project. By becoming a commentor, your concerns will be addressed in the EA and considered by the Commission. You should focus on the potential environmental effects of the proposal, alternatives to the proposal (including alternative routes), and measures to avoid or lessen environmental impact. The more specific your comments, the more useful they will be. Please carefully follow these instructions to ensure that your comments are received in time and properly recorded:

• Send an original and two copies of your letter to: Linwood A. Watson, Jr., Acting Secretary, Federal Energy Regulatory Commission, 888 First St., NE., Room 1A, Washington, DC 20426.

• Label one copy of the comments for the attention of the Gas 1, PJ-11.1.

• Reference Docket No. CP02-57-000.

• Mail your comments so that they will be received in Washington, DC on or before February 25, 2002.

Comments may also be filed electronically via the Internet in lieu of paper. See 18 CFR 385.2001(a)(1)(iii) and the instructions on the Commission's Web site at http://www.ferc.gov under the “e-Filing” link and the link to the User's Guide. Before you can file comments you will need to create an account which can be created by clicking on “Login to File” and then “New User Account.” Due to current events, we cannot guarantee that we will receive mail on a timely basis from the U.S. Postal Service, and we do not know how long this situation will continue. However, we continue to receive filings from private mail delivery services, including messenger services, in a reliable manner. The Commission encourages electronic filing of any comments or interventions or protests to this proceeding. We will include all comments that we receive within a reasonable time frame in our environmental analysis of this project.

If you do not want to send comments at this time but still want to remain on our mailing list, please return the Information Request (appendix 3). If you do not return the Information Request, you will be taken off the mailing list.

Becoming an Intervenor

In addition to involvement in the EA scoping process, you may want to become an official party to the proceeding known as an “intervenor”. Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to rule 214 of the Commission's rules of practice and procedure (18 CFR 385.214) (see appendix 2).⁴ Only intervenors have the right to seek rehearing of the Commission's decision.

⁴ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Additional information about the proposed project is available from the Commission's Office of External Affairs at (202) 208-1088 or on the FERC Web site (www.ferc.gov) using the “RIMS” link to information in this docket number. Click on the “RIMS” link, select “Docket #” from the RIMS Menu, and follow the instructions. For assistance with access to RIMS, the RIMS helpline can be reached at (202) 208-2222.

Similarly, the “CIPS” link on the FERC Internet Web site provides access to the texts of formal documents issued by the Commission, such as orders, notices, and rulemakings. From the FERC Internet Web site, click on the “CIPS” link, select “Docket #” from the CIPS menu, and follow the instructions. For assistance with access to CIPS, the CIPS helpline can be reached at (202) 208-2474.

Linwood A. Watson, Jr.,
Acting Secretary.

[FR Doc. 02-2092 Filed 1-28-02; 8:45 am]

BILLING CODE 6717-01-P